INTERNATIONAL TRADE COMMISSION

[USITC SE-11-020]

Government in the Sunshine Act Meeting Notice

AGENCY HOLDING THE MEETING: United States International Trade Commission.

TIME AND DATE: July 27, 2011 at 11 a.m.

PLACE: Room 101, 500 E Street, SW., Washington, DC 20436. Telephone: (202) 205-2000.

STATUS: Open to the public.

MATTERS TO BE CONSIDERED:

1. Agendas for future meetings: none.

2. Minutes

3. Ratification List

4. Vote in Inv. Nos. 731-TA-457-A-D (Third Review)(Heavy Forged Hand Tools from China). The Commission is currently scheduled to transmit its determinations and Commissioners' opinions to the Secretary of Commerce on or before August 10, 2011.

5. Outstanding action jackets: none.

In accordance with Commission policy, subject matter listed above, not disposed of at the scheduled meeting, may be carried over to the agenda of the following meeting.

By order of the Commission.
Issued: July 20, 2011.
William R. Bishop,
Hearings and Meetings Coordinator.

[FR Doc. 2011-18859 Filed 7-21-11; 11:15 am]

BILLING CODE 7020-02-P